DEPARTMENT OF ENERGY

Federal Energy Regulatory Commission

[Docket No. CP10-21-000]

Transcontinental Gas Pipe Line Company, LLC; Notice of Intent To Prepare an Environmental Assessment for the Proposed Mobile Bay South II Expansion Project and Request for Comments on Environmental Issues

January 11, 2010.

The Staff of the Federal Energy Regulatory Commission (FERC or Commission) will prepare an environmental assessment (EA) that will discuss the environmental impacts of the Mobile Bay South II Expansion Project (Project) involving construction and operation of facilities by Transcontinental Gas Pipe Line Company, LLC (Transco) in Choctaw County, Alabama. This EA will be used by the Commission in its decision-making process to determine whether the project is in the public convenience and necessity.

The Notice of Intent (NOI) explains the scoping process that will be used to gather input from the public and interested agencies on the Project. Your input will help determine which issues will be evaluated in the EA. Please note that the scoping period for this Project will close on February 12, 2010.

Comments on the Project may be submitted in written form or electronically, as described in the public participation section of this notice.

This NOI is being sent to the Commission's current environmental mailing for this project, which includes affected landowners; federal, state, and local government representatives and agencies; elected officials; environmental and public interest groups; Native American Tribes; parties to this proceeding; and local libraries and newspapers. State and local government representatives are asked to notify their constituents of this proposed project and encourage them to comment on their areas of concern.

A fact sheet prepared by the FERC entitled “An Interstate Natural Gas Facility on My Land? What Do I Need To Know?” is available for viewing on the FERC Internet Web site (http://www.ferc.gov/for-citizens/citizen-guides.asp). This fact sheet addresses a number of typically asked questions, including the use of eminent domain and how to participate in FERC's proceedings.

Summary of the Proposed Project

Transco proposes to install one additional 8,180 horsepower compressor unit and related auxiliary equipment at Compressor Station 85 located at the interconnection of the Mobile Bay Lateral and Transco's mainline in Choctaw County, Alabama, minor modifications, including installation of gas coolers, at the existing Compressor Station 83 in Mobile County, Alabama, and a new tap, valve, and associated piping to interconnect with an additional meter station to be constructed, owned, and operated by Florida Gas Transmission Company, LLC (“Florida Gas”) adjacent to its existing Citronelle meter station in Mobile County, Alabama.

A location map depicting the proposed facilities is attached to this NOI as Appendix 1.¹

¹ The appendices referenced in this notice are not printed in the Federal Register, but they are being provided to all those who receive this notice in the mail. Copies of the NOI can be obtained from the Commission's Web site at the “eLibrary” link, Commission's Public Reference Room, or by calling (202) 502-8371. For instructions on connecting to eLibrary, refer to the end of this notice.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we will discuss impacts that could occur as results of the construction and operation of the proposed project under these general headings:

• Geology and soils.

• Water resources.

• Aquatic resources Vegetation and wildlife.

• Threatened and endangered species.

• Land use, recreation, and visual resources.

• Cultural resources.

• Socioeconomics.

• Air quality and noise.

• Reliability and safety.

• Cumulative impacts.

We will also evaluate reasonable alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the Public Participation section.

Currently Identified Environmental Issues

We have already identified issues that we think deserve attention based on our previous experience with similar projects in the region. This preliminary list of issues, which is presented below, may be revised based on your comments and our continuing analyses specific to the Project.

• Potential noise and vibration impacts from compressor station.

• Air quality impacts from the compressor station construction and operation.

Public Participation

You can make a difference by providing us with your specific comments or concerns about the Project. Your comments should focus on the potential environmental effects, reasonable alternatives, and measures to avoid or lessen environmental impacts. The more specific your comments, the more useful they will be. To ensure that your written comments are timely and properly recorded, please send in your comments so that they will be received in Washington, DC on or before February 12, 2010.

Comments on the proposed Project can be submitted to the FERC in written form. For your convenience, there are three methods which you can use to submit your written comments to the Commission. In all instances please reference the Project docket number (CP10-21-000) with your submission. The three methods are:

(1) You may file your comments electronically by using the Quick Comment feature, which is located at http://www.ferc.gov under the link called “Documents and Filings”. A Quick Comment is an easy method for interested persons to submit text-only comments on a project;

(2) You may file your comments electronically by using the “eFiling” feature that is listed under the “Documents and Filings” link. eFiling involves preparing your submission in the same manner as you would if filing on paper, and then saving the file on your computer's hard drive. You will attach that file to your submission. New eFiling users must first create an account by clicking on the links called “Sign up” or “eRegister”. You will be asked to select the type of filing you are making. A comment on a particular project is considered a “Comment on a Filing”; or

(3) You may file your comments with the Commission via mail by sending your letter to: Kimberly D. Bose, Secretary, Federal Energy Regulatory Commission, 888 First Street, NE., Room 1A, Washington, DC 20426.

Environmental Mailing List

An effort is being made to send this notice to all individuals, organizations, and government entities interested in and/or potentially affected by the proposed project. This includes all landowners whose property may be used temporarily for project purposes, who have existing easements from the pipeline, or who own homes within distances defined in the Commission's regulations of certain aboveground facilities. By this notice we are also asking governmental agencies, especially those in Appendix 2, to express their interest in becoming cooperating agencies for the preparation of the EA.

If you do not want to send comments at this time but still want to remain on our mailing list, please return the Information Request (Appendix 3). If you do not return the Information Request, you will be taken off the mailing list.

Additional Information

Additional information about the project is available from the Commission's Office of External Affairs, at 1-866-208-FERC or on the Internet at http://www.ferc.gov using the “eLibrary” link. Click on the eLibrary link, click on “General Search” and enter the docket number, excluding the last three digits, in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. 2010-915 Filed 1-19-10; 8:45 am]

BILLING CODE 6717-01-P